NATIONAL AERONAUTICS AND SPACE ADMINISTRATION

48 CFR Part 1804

RIN 2700-AC61

Format and Numbering of Award Documents

AGENCY: National Aeronautics and Space Administration.

ACTION: Final rule.

SUMMARY: This final rule revises the NASA FAR Supplement (NFS) to change the scheme used for numbering procurement award instruments. This change is required to comply with the General Services Administration (GSA) requirement that each agency establish unique document numbers on award instruments.

EFFECTIVE DATE: October 1, 2003.

FOR FURTHER INFORMATION CONTACT: William Childs, NASA, Office of Procurement, Analysis Division (Code HC), (202) 358-0454, e-mail: wchilds@nasa.gov.

SUPPLEMENTARY INFORMATION:

A. Background

Effective October 1, 2003, each agency is required to have unique document numbers on contracts, BPA calls, and other procurement instruments. Document numbers must be unique within the agency and between agencies. The General Services Administration (GSA) has established a register of agency numbering schemes to assure they do not conflict. On May 21, 2003, the Assistant Administrator for Procurement approved a new numbering scheme to be used by NASA to comply with the GSA requirement. This final rule implements that scheme.

B. Regulatory Flexibility Act

This final rule does not constitute a significant revision within the meaning of FAR 1.501 and Public Law 98-577, and publication for public comment is not required. However, NASA will consider comments from small entities concerning the affected NFS Part 1804 in accordance with 5 U.S.C. 610.

C. Paperwork Reduction Act

The Paperwork Reduction Act does not apply because the changes do not impose recordkeeping or information collection requirements which require the approval of the Office of Management and Budget under 44 U.S.C. 3501, et seq.

List of Subjects in 48 CFR Part 1804.

Government Procurement.

Tom Luedtke,
Assistant Administrator for Procurement.

Accordingly, 48 CFR Part 1804 is amended as follows:

1. The authority citation for 48 CFR Part 1804 continues to read as follows:

Authority: 42 U.S.C. 2473(c)(1).

PART 1804—ADMINISTRATIVE MATTERS

2. Revise sections 1804.7101 and 1804.7102 to read as follows:

1804.7101 Policy.

(a) Contractual documents shall be numbered with approved prefixes, suffixes, and serial numbers as prescribed in this subpart. If other identification is required for center purposes, it shall be placed on the document in such a location as to clearly separate it from the identification number.

(b) The identification number shall consist of exactly 10 alpha-numeric characters positioned as prescribed in this subpart and shall be retained unchanged for the life of the particular instrument.

(c) Identification numbers shall be serially assigned to the extent feasible. Installations may designate blocks of numbers to offices for future use.

(d) Solicitations shall be numbered in accordance with installation procedures, except that in all cases the identifying number shall begin with the three characters specified in 1804.7102(a)(1) and (2).

1804.7102 Numbering scheme.

(a) General.

(1) The first two characters shall be NN.

(2) The third character shall be the same letter as used in the Integrated Financial Management Program (IFMP), i.e., the first letter of Center name, except for GRC which uses “C”.

(3) The fourth and fifth characters shall be 2 numeric characters for the FY in which the award is expected to be signed by the Government.

(4) The sixth through ninth characters shall be 4 digits for action number; 2 alphas, 2 numbers (AA01, AA02 . . . AA99, AB01, AB02, . . . AZ99, BA01, BA02, etc. through ZZ99)

(5) The tenth character shall be 1 alpha character for type of action.

(b) Codes for Type of Action:

A—Cooperative agreement.

B—BOA, GWAC, or other indefinite delivery type contract.

C—Contract (except Facilities or indefinite delivery type).

D—Delivery order or call against a supply contract (BOA, FSS, or other indefinite delivery contract or BPA).

F—Facilities contract.

G—Grant (other than training).

H—Training grant.

I—Intragovernmental transaction, i.e., request to another Government agency to furnish supplies or services. It does not include an award by NASA to fulfill a request from another agency.

P—Purchase order. (This does not include a call or task or delivery order, regardless of whether it is issued on a purchase order form. It also does not include other types of actions listed in this paragraph, notwithstanding that they are referred to as purchase orders in IFMP.)

S—Space Act agreement.

T—Task order against a service (including R&D) contract (BOA, FSS, or other indefinite delivery contract or BPA).

Z—BPA.

(c) Sample.

NNG04AA01C would be a GSFC action issued in FY04. It would be the first one issued at the Center (or the first of its type), and the action type would be a contract:

NN | G | 04 | AA01 | C
NASA | GSFC | FY04 | Serial No. 1 | Contract

1804.7103 [Removed]

1804.7104 [Redesignated as 1804.7103]

3. Remove section 1804.7103 and redesignate section 1804.7104 as section 1804.7103.

[FR Doc. 03-23176 Filed 9-10-03; 8:45 am]

BILLING CODE 7510-01-P